DEPARTMENT OF HOMELAND SECURITY

Office of the Secretary

Establishment of the Homeland Security Advisory Council

AGENCY: Office of the Secretary, Department of Homeland Security.

ACTION: Notice.

SUMMARY: The Secretary of Homeland Security (Secretary) is establishing the Homeland Security Advisory Council (HSAC) effective April 1, 2003. The Secretary has determined that the HSAC is necessary and in the public interest in connection with the performance of his duties. The primary purpose of the HSAC will be to provide advice and recommendations to the Secretary on matters relating to homeland security. The HSAC will operate in an advisory capacity only. This notice is being provided in accordance with the Federal Advisory Committee Act, as amended, 5 U.S.C. App. The HSAC will terminate two years from the date of its establishment, unless extended by the Secretary.

In accordance with 41 CFR 102-3.65(b), as requested by the Department, the General Services Administration Committee Management Secretariat has approved a period of less than 15 calendar days pursuant to the publication of this notice for the filing of the HSAC Charter.

FOR FURTHER INFORMATION CONTACT: Cynthia Gismegian, Homeland Security Advisory Council, Department of Homeland Security, Washington, DC 20528, (202) 282-8000, cynthia.gismegian@dhs.gov.

Tom Ridge,
Secretary of Homeland Security.

[FR Doc. 03-7880 Filed 3-28-03; 11:43 am]

BILLING CODE 4410-10-P